DEPARTMENT OF TRANSPORTATION

National Highway Traffic Safety Administration

[Docket No. NHTSA-2024-0037]

Minimum Performance Measures for the State Highway Safety Grant Program

AGENCY: National Highway Traffic Safety Administration (NHTSA), Department of Transportation (DOT).

ACTION: Notification of public meeting; request for comments (RFC).

SUMMARY: NHTSA is initiating a process to update minimum performance measures for the State Highway Safety Grant Program. In order to ensure that the broadest possible cross-section of stakeholders is engaged from the onset of this process, NHTSA is publishing this RFC and announcing a public meeting to be held prior to issuing the updated highway safety performance measurement framework.

DATES: The public meeting will be held virtually on Wednesday, August 21, 2024. The meeting will convene at 2:00 p.m. Eastern time and will conclude when the last pre-registered speaker has provided oral comments but no later than 5:30 p.m. Eastern time. All attendees, including those who do not intend to provide oral remarks, should preregister by August 16, 2024. The link to register will be available at NHTSA.gov/Events.

Upon registration, participants will identify whether they choose to provide oral comments at the meeting (see SUPPLEMENTARY INFORMATION below for additional details). The public will also have the opportunity to submit written comments to the Docket concerning matters addressed in this notification. Written comments should be submitted no later than August 26, 2024.

ADDRESSES: The public meeting will be held virtually via Zoom for Government. The meeting's online link and a detailed agenda will be provided upon registration. You may send written comments, identified by the docket number listed at the beginning of this document by any of the following methods:

Federal eRulemaking Portal: https://www.regulations.gov. Follow the instructions for sending comments.

Mail: Docket Management Facility, U.S. Department of Transportation, 1200 New Jersey Avenue SE, West Building Ground Floor, Room W12-140, Washington, DC 20590-0001.

Hand Delivery/Courier: 1200 New Jersey Avenue SE, West Building Ground Floor, Room W12-140, Washington, DC, between 9 a.m. and 5 p.m. ET, Monday through Friday, except Federal Holidays. To be sure someone is there to help you, please call 202-366-9826 before coming.

Instructions: All written submissions must include the agency name and docket number NHTSA-2024-0037. All comments received will be posted without change at https://www.regulations.gov/ including any personal information provided. For detailed instructions on sending comments and additional information on the rulemaking process, see the “Public Participation” heading of the SUPPLEMENTARY INFORMATION section of this document.

Docket: For access to the docket, go to https://www.regulations.gov at any time or to 1200 New Jersey Avenue SE, West Building, Ground Floor, Room W12-140, Washington, DC 20590 between 9 a.m. and 5 p.m., Monday through Friday, except Federal Holidays. If coming in person, please call 202-366-9826 to be sure someone is there to help you.

FOR FURTHER INFORMATION CONTACT: Amy Schick, Acting Director, Office of Grants Management and Operations, Regional Operations and Program Delivery, National Highway Traffic Safety Administration; Telephone number: (202) 366-2121; email: nhtsaropdprogramquestions@dot.gov.

SUPPLEMENTARY INFORMATION: Performance management is a strategic and outcome-based approach that provides a framework to support improved policy and investment decisions. Performance management accentuates objective data and evidence-based project selection. It enhances communication and transparency between decision-makers, stakeholders, and the traveling public. Furthermore, performance measures are a valuable planning tool that emphasizes integrating data, planning, and action.

The performance measures currently required for NHTSA's State Highway Safety Grant Program were first developed for voluntary use in 2008.¹ The MAP-21 surface transportation authorization, enacted in 2012, codified into law a requirement for a standardized set of performance measures that guide investments in programs to achieve State performance targets.² That requirement, which remains in the current grant program authorization under the Bipartisan Infrastructure Law,³ requires the Secretary, in consultation with the Governors Highway Safety Association (GHSA), to “develop minimum performance measures” that State Highway Safety Offices (SHSO) use to guide their triennial Highway Safety Plan (3HSP).

¹ Traffic Safety Performance Measures for States and Federal Agencies” (DOT HS 811 025).

² Public Law 112-141, Section 31102.

³ Public Law 117-58, Section 24102. See also, 23 U.S.C. 402(k)(5).

Presently, SHSOs submit targets for 15 pre-defined measures and targets to NHTSA. The current minimum performance measures are:

• Outcome Measures

States set safety targets and report progress on the following eleven outcome measures:

(C-1) Number of traffic fatalities (Fatality Analysis and Reporting System (FARS))

(C-2) Number of serious injuries in traffic crashes (State crash data files)

(C-3) Fatalities/VMT (FARS, FHWA-Highway Performance Management System (HPMS))

(C-4) Number of unrestrained passenger vehicle occupant fatalities, all seat positions (FARS)

(C-5) Number of fatalities in crashes involving a driver or motorcycle operator with a BAC of .08 and above (FARS)

(C-6) Number of speeding-related fatalities (FARS)

(C-7) Number of motorcyclist fatalities (FARS)

(C-8) Number of unhelmeted motorcyclist fatalities (FARS)

(C-9) Number of drivers age 20 or younger involved in fatal crashes (FARS)

(C-10) Number of pedestrian fatalities (FARS)

(C-11) Number of bicyclist fatalities (FARS)

• Behavior Measure

States set a safety target and report progress on one behavior measure:

(B-1) Observed seat belt use for passenger vehicles, front seat outboard occupants (individual State survey)

• Activity Measures

States report on the following three activity measures:

(A-1) Number of seat belt citations issued during grant-funded enforcement activities (grant activity reporting)

(A-2) Number of impaired driving citations issued during grant-funded enforcement activities (grant activity reporting)

(A-3) Number of speeding citations issued during grant-funded enforcement activities (grant activity reporting)

Collectively, these performance measures contribute to progress toward achieving NHTSA's highway safety mission that centers on saving lives, preventing injuries, and reducing economic costs due to traffic crashes. The minimum performance measures developed by NHTSA and GHSA in 2008 address core highway safety areas, but do not address all of the possible highway safety problem areas that States address. While significant progress has been made since 2012, work remains to increase safety for people on the Nation's roadways.

Pursuant to the requirement in 23 U.S.C. 402(k)(5), NHTSA, in consultation with GHSA, seeks to update the performance management framework in order to provide States with improved tools to strengthen highway safety programs, resulting in a diversified set of countermeasures among a broader portfolio of subrecipients to further reach communities overrepresented in the data and underrepresented in the programming and funding decisions.

To ensure that the broadest possible cross-section of stakeholders is engaged from the start of the process, NHTSA publishes this RFC and announces one public meeting before issuing the updated highway safety performance measurement framework for State Highway Safety Offices. NHTSA and GHSA will utilize lessons learned over the past 16 years, as well as comments received from the public in response to this Request for Comment and during the public meeting to refine the minimum required performance measures for the State Highway Safety Grant Program.

All interested parties are invited to participate in this opportunity.

Public Participation

Registration: Registration is required for all attendees. There is no cost to register. Attendees should register online using the links below by August 16. Please provide your name, affiliation, email address, and indicate whether you wish to speak during the public meeting.

Register at: NHTSA.gov/Events.

Registration will close on Friday, August 16th at 5:00 p.m. Eastern Time.

Speaker registration will be on a first-come, first-served basis. As described later in this notification, NHTSA wants to hear perspectives on what data-driven performance measures State Highway Safety Offices must submit within their triennial Highway Safety Plan to NHTSA.

• To register to speak at the virtual meeting: Register at NHTSA.gov/Events and indicate YES on the registration page that you would like to provide comments. Within 24 hours of registering, you will be emailed your link to join. Additionally, you will receive an email with your approximate time to provide oral comments, and additional information about how to turn on your audio and camera to comment. We recommend you join via a computer, but if you are unable to do so, an option to join via phone will also be provided in that email. The last day to pre-register to speak at the meeting will be August 16, 2024. All speakers will receive a unique link not less than 24-hours prior to the meeting start time.

• To watch the meeting (without providing oral comments): Register at NHTSA.gov/Events and indicate NO on the registration page that you do not wish to provide oral comments. Within 24 hours of registering, you will be emailed your link to join.

If you do not receive your confirmation email(s), or have further questions about this hearing, please email NHTSA.Communication@dot.gov.

Each speaker will have a maximum 6 minutes to offer oral comments to ensure that all interested presenters are allowed to present their views during the day of the meeting. Speakers are asked to respond to the six Guiding Questions provided below. When called upon to provide comments, speakers will be asked to turn on their cameras and state their name and organizations/affiliation. Speakers have the option to use visual aids such as PowerPoint presentations. NHTSA may ask clarifying questions during the oral presentations but will not respond to the presentations at that time. NHTSA may adjust time schedule on a running basis during the meeting if the meeting is running ahead of schedule.

NHTSA recommends submitting the text of your oral comments as written comments to the rulemaking docket, as appropriate. Written statements and supporting information submitted during the comment period will be considered with the same weight as oral comments and supporting information presented at the public meeting. If identical comments are submitted by the same commenter more than once to the docket, NHTSA does not consider those comments to carry more weight than if they had been submitted only once.

Please note that any updates made to any aspects of the public meeting logistics, including any change to the date or a potential additional session will be posted on the registration page. Should it become necessary to cancel or reschedule the meeting due to an unforeseen circumstance, NHTSA will take all available measures to notify registered participants as soon as possible.

NHTSA is committed to providing equal access for all participants. Persons with disabilities who require an accommodation and persons with limited English proficiency who require language access services should contact NHTSA's Grants Management Office at nhtsaropdprogramquestions@dot.gov no later than August 5, 2024 to request a reasonable accommodation and/or language access services.

Written Comments: Comments may be submitted electronically or in hard copy during the 30-day comment period. Please submit all comments no later than 30 days after the publication of this public notification, using any of the methods listed earlier in this document. Written comments should refer to the docket number above and be submitted by one of the following methods:

• Federal Rulemaking Portal: www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays. To be sure someone is there to help you, please call 202-366-9826 before coming.

Instructions: All written comment submissions must include the agency name and docket number. All comments received will be posted without change to https://www.regulations.gov/privacy.html, including any personal information provided. Please see the Privacy Act discussion below.

Docket: For access to the Docket, go to https://www.regulations.gov at any time or to 1200 New Jersey Avenue SE, West Building, Ground Floor, Room W12-140, Washington, DC 20590 between 9 a.m. and 5 p.m., Monday through Friday, except Federal Holidays. If coming in person, please call 202-366-9826 to be sure someone is there to help you.

Privacy Act: Anyone can search the electronic form of all comments received into any of our dockets by the name of the individual submitting the comment (or signing the comment, if submitted on behalf of an association, business, labor union, etc.). You may review DOT's complete Privacy Act Statement in the Federal Register published on April 11, 2000 (Volume 65, Number 70, Pages 19477-78), or visit https://www.regulations.gov/privacy.html.

Confidential Business Information: If you wish to submit any information under a claim of confidentiality, you should submit three copies of your complete submission, including the information you claim to be confidential business information to the Chief Counsel, NHTSA, at 1200 New Jersey Avenue SE, Washington, DC 20590. In addition, you should submit two copies, from which you have deleted the claimed confidential business information, to Docket Management at the address given above. When you send a comment containing information claimed to be confidential business information, you should submit a cover letter setting forth the information specified in our confidential business information regulation (49 CFR part 512).

Specific Guiding Questions

Question 1

Are the existing traffic safety performance measures effectively informing the State's highway safety programming decisions and encouraging the adoption of the Safe System Approach? If not, how can the measures be adapted to better support a comprehensive approach to roadway safety that results in impactful programming and funding decisions?

Question 2

Should performance measures be added, removed, or updated? If yes, which one(s) and why?

Question 3

How can performance management help States develop more robust programs to engage communities that have members killed and/or seriously injured at higher rates than others but are underrepresented in the State's programming and funding investments?

Question 4

As part of the Bipartisan Infrastructure Law, Congress directed NHTSA in section 24102 to, “provide for a comprehensive, data-driven traffic safety program that results from meaningful public participation and engagement from affected communities, particularly those most significantly impacted by traffic crashes resulting in injuries and fatalities.”

How can performance management help assess community input and engagement, and what are your thoughts on adding a measure to evaluate the degree to which State Highway Safety Offices (SHSO) are diversifying their grantees who represent communities overrepresented in fatality data and underrepresented in the State's programming?

Question 5

Currently, the Federal Highway Administration requires 5 safety performance measures for State DOTs:

• Number of traffic fatalities (Fatality Analysis and Reporting System (FARS))

• Number of serious injuries in traffic crashes (State crash data files)

• Fatalities/VMT (FARS, FHWA-Highway Performance Management System (HPMS))

• Rate of Serious Injuries per 100 million VMT

• Number of Non-motorized Fatalities and Non-motorized Serious Injuries

NHTSA requires States to report on the number of fatalities, serious injuries, and the rate of fatalities per 100 million VMT. NHTSA does not require SHSOs to report on the rate of serious injuries per 100 million VMT nor the number of non-motorized fatalities and non-motorized serious injuries.

Should the serious injuries per 100 million VMT and non-motorized fatalities and serious injuries measures be included in NHTSA's Core Performance Measures? Please share the reasons for your perspective.

Question 6

The current performance management model requires SHSOs to submit 15 pre-identified core, behavioral and activity performance measures.

Are there other SHSO performance management approaches NHTSA should consider? For example, what are your thoughts on an approach that would require 3-5 pre-identified overall fatality and serious injury targets that apply to all SHSOs universally in addition to a set of targeted performance measures for specific highway safety program areas that would be required for any State that includes that program area in its triennial Highway Safety Plan?

Issued in Washington, DC.
Under authority delegated in 49 CFR 1.95 and 501.8(i).
Barbara Sauers,
Associate Administrator, Regional Operations and Program Delivery.

[FR Doc. 2024-15963 Filed 7-18-24; 8:45 am]

BILLING CODE 4910-59-P